DEPARTMENT OF ENERGY

Federal Energy Regulatory Commission

Sunshine Act Meeting Notice

AGENCY HOLDING MEETING: Federal Energy Regulatory Commission.

FEDERAL REGISTER CITATION OF PREVIOUS ANNOUNCEMENT: 01/11/2002, 67 FR 1460.

PREVIOUSLY ANNOUNCED TIME AND DATE OF MEETING: January 16, 2002, 10:00 a.m.

CHANGE IN THE MEETING: The following Docket Nos. and Companies have been added as Item M-1, to the Commission Agenda of January 16, 2002:

Item No. | Docket No. and Company
M-1 | RM02-4-000, Rule Regarding Critical Energy Infrastructure Information.
| PL02-1-000, Policy Statement on the Treatment of Previously Public Documents.

Linwood A. Watson, Jr.,
Acting Secretary.

[FR Doc. 02-1576 Filed 1-16-02; 4:55 pm]

BILLING CODE 6717-01-P